DEPARTMENT OF COMMERCE

Foreign-Trade Zones Board

[Order No. 1777]

Reorganization of Foreign-Trade Zone 216 Under Alternative Site Framework, Olympia, WA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Port of Olympia, grantee of Foreign-Trade Zone 216, submitted an application to the Board (FTZ Docket 31-2011, filed 05/09/2011) for authority to reorganize under the ASF with a service area of Thurston County and portions of Kitsap, Lewis and Mason Counties, Washington, within and adjacent to the Olympia U.S. Customs and Border Protection port of entry, and FTZ 216's existing Sites 1-7 and 9-13 would be categorized as magnet sites, existing Site 8 would be deleted and acreage reduced at existing Sites 1, 3, 4 and 13;

Whereas, notice inviting public comment was given in the Federal Register (76 FR 27987, 05/13/2011) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to reorganize FTZ 216 under the alternative site framework is approved, subject to the FTZ Act and the Board's regulations, including Section 400.28, to the Board's standard 2,000-acre activation limit for the overall general-purpose zone project, and to five-year ASF sunset provisions for magnet sites that would terminate authority for Sites 1-7 and 9-13 if not activated by August 31, 2016.

Signed at Washington, DC this 3rd day of August 2011.
Ronald K. Lorentzen,
Deputy Assistant Secretary for Import Administration, Alternate Chairman, Foreign-Trade Zones Board.

[FR Doc. 2011-20567 Filed 8-11-11; 8:45 am]

BILLING CODE P